ENVIRONMENTAL PROTECTION AGENCY

40 CFR Part 52

[EPA-R07-OAR-2019-0332; FRL-9995-31-Region 7]

Approval of Iowa and Nebraska Air Quality Implementation Plans; Infrastructure SIP Requirements for the 2012 Annual Fine Particulate Matter (PM2.5) National Ambient Air Quality Standard Interstate Transport

AGENCY: Environmental Protection Agency (EPA).

ACTION: Proposed rule.

SUMMARY: The Environmental Protection Agency (EPA) is proposing to approve elements of State Implementation Plan (SIP) submissions from Iowa Department of Natural Resources (IDNR) and Nebraska Department of Environmental Quality (NDEQ) for the 2012 Annual Fine Particulate Matter (PM2.5) National Ambient Air Quality Standard (NAAQS). The Clean Air Act (CAA) requires that each state adopt and submit a SIP that provides for the implementation, maintenance, and enforcement of each NAAQS promulgated by EPA, commonly referred to as “infrastructure” SIPs. In this action EPA is proposing to approve the interstate transportation obligations of the State's 2012 PM2.5 NAAQS infrastructure SIP submittals.

DATES: Comments must be received on or before July 26, 2019.

ADDRESSES: Submit your comments, identified by Docket ID No. EPA-R07-OAR-2019-0332, to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Lachala Kemp, Environmental Protection Agency, Region 7 Office, Air Quality Planning Branch, 11201 Renner Boulevard, Lenexa, Kansas 66219 at (913) 551-7214, or by email at kemp.lachala@epa.gov.

SUPPLEMENTARY INFORMATION: Throughout this document “we,” “us,” and “our” refer to EPA. This section provides additional information by addressing the following:

I. Written Comments

II. What is being addressed in this document?

III. Have the requirements for approval of a SIP revision been met?

IV. Background

V. Relevant Factors To Evaluate the 2012 PM2.5 Interstate Transport SIPs

VI. States' Submissions and the EPA's Analysis

VII. What action is the EPA taking?

VIII. Statutory and Executive Order Reviews

I. Written Comments

Submit your comments, identified by Docket ID No. EPA-R07-OAR-2019-0332, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

II. What is being addressed in this document?

The EPA is proposing to approve the submittals as meeting the submittal requirement of section 110(a)(1). The EPA is proposing to approve certain elements of the infrastructure SIP submissions from Iowa received on December 22, 2015, and from Nebraska received on February 22, 2016. Specifically, the EPA is proposing to approve the following elements of section 110(a)(2)(D)(i)(I)—significant contribution to nonattainment (prong 1), and interfering with maintenance of the NAAQS (prong 2). The EPA has already addressed elements of 110(a)(2) including: (A) through (C), (D)(i)(II)—prevention of significant deterioration of air quality (prong 3), (D)(ii), and (E) through (H), and (J) through (M) in separate rulemakings for Iowa and Nebraska (see docket EPA-R07-OAR-2017-0517 and EPA-R07-OAR-2017-0477). The EPA intends to act on section 110(a)(2)(D)(i)(II)—protection of visibility (prong 4) in subsequent rulemakings. Finally, EPA is not acting on section 110(a)(2)(I) as it does not expect infrastructure SIP submissions to address element (I).

III. Have the requirements for approval of a SIP revision been met?

The state's submissions have met the public notice requirements for SIP submissions in accordance with 40 CFR 51.102. The state of Iowa held a 30-day comment period, and a public hearing on November 16, 2015. No oral or written comments were received. The state of Nebraska held a public comment period from November 23, 2015, to December 29, 2015. The state received no comments during the public comment period. A public hearing was held on December 29, 2015. The submissions satisfied the completeness criteria of 40 CFR part 51, appendix V.

IV. Background

On December 14, 2012, the EPA revised the primary annual PM2.5 NAAQS to 12.0 micrograms per cubic meter (μg/m³). See 78 FR 3086 (January 15, 2013). An area meets the standard if the three-year average of its annual average PM2.5 concentration (at each monitoring site in the area) is less than or equal to 12.0 μg/m³. States were required to submit infrastructure SIP submissions for the 2012 PM2.5 NAAQS to EPA no later than December 14, 2015.

CAA section 110(a)(1) requires states to submit SIP revisions within three years after promulgation of a new or revised NAAQS in order to provide for the implementation, maintenance, and enforcement of the new or revised NAAQS. CAA section 110(a)(2) outlines the applicable requirements of such SIP submissions, which EPA has historically referred to as “infrastructure SIP” submissions. Section 110(a)(2) requires states to address basic SIP elements such as monitoring, basic program requirements (e.g., permitting), and legal authority that are designed to assure attainment and maintenance of the newly established or revised NAAQS. Thus, section 110(a)(1) provides the procedural and timing requirements for infrastructure SIPs, and section 110(a)(2) lists specific elements that states must meet for the infrastructure SIP requirements related to a newly established or revised NAAQS. The contents of an infrastructure SIP submission may vary depending upon the data and analytical tools available to the state, as well as the provisions already contained in the state's implementation plan at the time in which the state develops and submits the submission for a new or revised NAAQS.

Section 110(a)(2)(D) has two subsections: 110(a)(2)(D)(i) and 110(a)(2)(D)(ii). Section 110(a)(2)(D)(i) includes four distinct components, commonly referred to as “prongs,” that must be addressed in infrastructure SIP submissions. The first two prongs, which are codified in section 110(a)(2)(D)(i)(I), require plans to prohibit any source or other type of emissions activity in one state from contributing significantly to nonattainment of the NAAQS in another state (prong 1) and from interfering with maintenance of the NAAQS in another state (prong 2). The third and fourth prongs, which are codified in section 110(a)(2)(D)(i)(II), are provisions that prohibit emissions activity in one state from interfering with measures required to prevent significant deterioration of air quality in another state (prong 3) or from interfering with measures to protect visibility in another state (prong 4). Section 110(a)(2)(D)(ii) requires SIPs to include provisions insuring compliance with sections 115 and 126 of the Act, relating to interstate and international pollution abatement.¹

¹ The EPA highlighted the statutory requirement to submit infrastructure SIPs within three years of promulgation of a new NAAQS in an October 2, 2007, guidance document entitled “Guidance on SIP Elements Required Under Sections 110(a)(1) and (2) for the 1997 8-hour Ozone and PM2.5 National Ambient Air Quality Standards” (2007 guidance). EPA has issued additional guidance documents and memoranda, including a September 13, 2013, guidance document titled “Guidance on Infrastructure State Implementation Plan (SIP) Elements under Clean Air Act Sections 110(a)(1) and 110(a)(2)” (2013 guidance).

Through this notice, EPA is proposing to approve the prong 1 and prong 2 portions of the infrastructure SIP submissions by Iowa and Nebraska as demonstrating that these states do not significantly contribute to nonattainment or interfere with maintenance of the 2012 PM2.5 NAAQS in any other state. For comprehensive information on the 2012 PM2.5 NAAQS, please refer to the Federal Register notice cited above.

V. Relevant Factors To Evalute the 2012 PM2.5 Intersate Transport SIPs

The EPA has developed a consistent framework for addressing interstate transport with respect to the PM2.5 NAAQS. This framework includes the following four steps: (1) Identify downwind areas that are expected to have problems attaining or maintaining the NAAQS; (2) Identify which upwind states contribute to these air quality problems in amounts sufficient to warrant further review and analysis; (3) Identify any emissions reductions necessary to prevent an identified upwind state from significantly contributing to downwind nonattainment or interfering with downwind maintenance of the NAAQS; and (4) Adopt permanent and enforceable measures needed to achieve those emissions reductions.

To help states identify the receptors expected to have problems attaining or maintaining the 2012 annual PM2.5 NAAQS, the EPA released a memorandum titled, “Information on the Interstate Transport `Good Neighbor' Provision for the 2012 Fine Particulate Matter National Ambient Air Quality Standards under Clean Air Act Section 110(a)(2)(D)(i)(I)” on March 17, 2016 (herein the “2016 Memo”).² The 2016 Memo provides projected future year annual PM2.5 design values for monitors throughout the country based on quality assured and certified ambient monitoring data and recent air quality modeling and explains the methodology used to develop these projected design values. The 2016 Memo also describes how the projected values can be used to help determine which monitors should be further evaluated as potential receptors under step 1 of the interstate transport framework described above, and how to determine whether emissions from other states significantly contribute to nonattainment or interfere with maintenance of the 2012 annual PM2.5 NAAQS at these monitoring sites.

² https://www.epa.gov/sites/production/files/2016-08/documents/good-neighbor-memo_implementation.pdf.

To develop the projected values presented in the 2016 Memo, the EPA used the results of nationwide photochemical air quality modeling that it recently performed to support several ozone NAAQS-related rulemakings. Base year modeling was performed for 2011. Future year modeling was performed for 2017 to support the Cross-State Air Pollution Rule (CSAPR) Update for the 2008 Ozone NAAQS. See 81 FR 74504 (October 26, 2016). Future year modeling was performed for 2025 to support the Regulatory Impact Assessment of the final 2015 Ozone NAAQS.³ In addition, and relevant to this proposed action on interstate transport SIPs for the 2012 annual PM2.5 NAAQS, the outputs from these model runs included hourly concentrations of PM2.5 that were used in conjunction with measured data to project annual average PM2.5 design values for 2017 and 2025.

³ See 2015 ozone NAAQS RIA at: http://www3.epa.gov/ozonepollution/pdfs/20151001ria.pdf.

Areas that were designated as moderate PM2.5 nonattainment areas for the 2012 annual PM2.5 NAAQS in 2014 must attain the NAAQS by December 31, 2021, or as expeditiously as practicable. Since modeling results are only available for 2017 and 2025, the 2016 Memo explains that one way to assess potential receptors for 2021 ⁴ is to assume that receptors projected to have average and/or maximum design values above the NAAQS in both 2017 and 2025 are also likely to be either nonattainment or maintenance receptors in 2021. Similarly, the EPA stated that it may be reasonable to assume that receptors that are projected to attain the NAAQS in both 2017 and 2025 are also likely to be attainment receptors in 2021. Where a potential receptor is projected to be nonattainment or maintenance in 2017, but projected to be attainment in 2025, further analysis of the emissions and modeling may be needed to make a further judgement regarding the receptor status in 2021.

⁴ Assessing downwind PM2.5 air quality problems based on estimates of air quality concentrations in a future year aligned with the relevant attainment deadline is consistent with the instructions from the United States Court of Appeals for the District of Columbia Circuit (D.C. Circuit) in North Carolina v. EPA, 531 F.3d 896, 911-12 (D.C. Cir. 2008), that upwind emission reductions should be harmonized, to the extent possible, with the attainment deadlines for downwind areas.

Based on this approach, the EPA identified 19 potential nonattainment and/or maintenance receptors. All of the 17 potential nonattainment receptors are located in California. One of the potential maintenance-only receptors is located in Shoshone County, Idaho, and the other potential maintenance-only receptor is located in Allegheny County, Pennsylvania.

The 2016 memorandum also notes that because of data quality problems, nonattainment and maintenance projections were not conducted for monitors in all or portions of Florida, Illinois, Idaho (outside of Shoshone County), Tennessee and Kentucky. EPA notes, however, that data quality problems have subsequently been resolved for all of the aforementioned areas. These areas have current design values ⁵ below the 2012 PM2.5 NAAQS and are expected to continue to maintain the NAAQS due to downward emission trends for nitrogen oxides (NOX) and sulfur dioxide (SO2) and therefore are not considered potential receptors for the purpose of interstate transport for the 2012 PM2.5 NAAQS.

⁵ Current design values include the 2015-2017 available and certified data that states submitted to EPA on May 1, 2018, through the Air Quality System.

After identifying potential receptors, the next step is to identify whether upwind states contribute to air pollution at each of the identified receptors in other states. In the 2016 Memo, the EPA did not calculate the portion of any downwind state's predicted PM2.5 concentrations that would result from emissions from individual states. Accordingly, the EPA will evaluate prong 1 and 2 submissions for states using a weight of evidence analysis. This analysis is based on a review of the state's submission and other available information, including air quality trends; geographical and meteorological information; local emissions in downwind states and emissions from the upwind state; and contribution modeling from prior interstate transport analyses. While none of these factors is by itself fully conclusive, together they may be used in weight of evidence analyses to determine whether the emissions from each of the states that are the subject of this notice will significantly contribute to nonattainment or interfere with maintenance of the 2012 annual PM2.5 NAAQS at the identified receptors in the 2016 Memo.

VI. States' Submissions and the EPA's Analysis

Iowa: Iowa and the EPA's supplemental analysis concluded that the state does not contribute significantly to nonattainment or interfere with maintenance of the 2012 annual PM2.5 NAAQS in any other state for the following reasons: (1) There are no designated PM2.5 nonattainment areas in Iowa or in surrounding states; (2) available monitoring data in Iowa and in the surrounding states show annual average concentrations below the standard; and (3) Iowa has SIP-approved regulations to assure that the state is not interfering with attainment or maintenance of the 2012 PM2.5 NAAQS in any other state. As noted in EPA's CSAPR analysis, Iowa's emissions contribute to a potential maintenance receptor in Madison County, Illinois. As stated above, the 2016 memorandum notes that because of data quality problems, nonattainment and maintenance projections were not conducted for monitors in a number of states including Illinois. The EPA notes, however, that data quality problems have subsequently been resolved for all of the aforementioned areas. These areas have current design values below the 2012 PM2.5 NAAQS and are expected to continue to maintain the NAAQS due to downward emission trends for nitrogen oxides (NOX) and sulfur dioxide (SO2) and therefore are not considered potential receptors for the purpose of interstate transport for the 2012 PM2.5 NAAQS.

With regard to the 17 California potential receptors, located in the San Joaquin Valley or South Coast nonattainment areas, Iowa is nearly 1,500 miles—and downwind—from California. With this large distance and a general prevailing west to east wind flow, there is no evidence that Iowa will impact the California potential receptors, and as a result, the EPA concludes that emissions in Iowa do not significantly contribute to nonattainment or interfere with maintenance.

With regard to the Shoshone County, Idaho receptor, Iowa is more than 1000 miles and downwind of this receptor. With this distance and prevailing wind direction, there is no evidence that Iowa will impact this area, and as a result, EPA concludes that sources in Iowa do not significantly contribute to nonattainment or interfere with maintenance of the 2012 PM2.5 NAAQS at the projected Shoshone County receptor.

The EPA's supplemental analysis focused on whether there are maintenance or nonattainment receptors for 2021 to which Iowa is linked. As noted above, the EPA's 2016 memorandum identifies the Allegheny County Liberty monitor (AQS ID: 42-003-0064) as a potential maintenance receptor in 2017, but indicates that it is likely to attain and maintain the annual standard in 2021. The EPA's review of the CSAPR contribution modeling indicates that Iowa's contribution to the Liberty monitor is less than one percent of the 2012 PM2.5 NAAQS.

Based on weight of the evidence presented above, the EPA proposes to approve Iowa's SIP submission on grounds that it addresses the State's 110(a)(2)(D)(i)(I) good neighbor obligation for the 2012 PM2.5 standard and that the State will not significantly contribute to nonattainment or interfere with maintenance of the 2012 PM2.5 NAAQS in any other state.

Nebraska: Nebraska and the EPA's supplemental analysis concluded that it does not contribute significantly to nonattainment or interfere with maintenance of the 2012 annual PM2.5 NAAQS in any other state for the following reasons: (1) There are no designated PM2.5 nonattainment areas in Nebraska or in surrounding states; (2) modeling conducted by EPA in support of CSAPR indicates that Nebraska contribution to any designated 2012 PM2.5 nonattainment area is less than one percent of the standard; and (3) available monitoring data in Nebraska and in the surrounding states show annual average concentrations below the standard.

With regard to the 17 California potential receptors, located in the San Joaquin Valley or South Coast nonattainment areas, Nebraska is well over 1,000 miles—and downwind—from California. With this large distance and a general prevailing west to east wind flow, there is no evidence that Nebraska will impact the California potential receptors, and as a result, the EPA concludes that emissions in Nebraska do not significantly contribute to nonattainment or interfere with maintenance.

With regard to the Shoshone County, Idaho receptor, Nebraska is more than 800 miles and downwind of this receptor. With this distance and prevailing wind direction, there is no evidence that Nebraska will impact this area, and as a result, the EPA concludes that sources in Nebraska do not significantly contribute to nonattainment or interfere with maintenance of the 2012 PM2.5 NAAQS at the projected Shoshone County receptor.

The EPA's supplemental analysis focused on whether there are maintenance or nonattainment receptors for 2021 to which Nebraska is linked. As noted above, the EPA's 2016 memorandum identifies the Allegheny County Liberty monitor (AQS ID: 42-003-0064) as a potential maintenance receptor in 2017, but indicates that it is likely to attain and maintain the annual standard in 2021. The EPA's review of the CSAPR contribution modeling indicates that Nebraska's contribution to the Liberty monitor is less than one percent of the 2012 PM2.5 NAAQS.

Based on weight of the evidence presented above, EPA proposes to approve Nebraska's SIP submission on grounds that it addresses the State's 110(a)(2)(D)(i)(I) good neighbor obligation for the 2012 PM2.5 standard and that the state will not significantly contribute to nonattainment or interfere with maintenance of the 2012 PM2.5 NAAQS in any other state.

VII. What action is the EPA taking?

The EPA is proposing to approve the following elements of Iowa's December 22, 2015, and Nebraska's February 22, 2016, infrastructure SIP submissions: Section 110(a)(2)(D)(i)(I)—significant contribution to nonattainment (prong 1), and interfering with maintenance of the NAAQS (prong 2) as applicable to the 2012 Annual PM2.5 NAAQS.

VIII. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Particulate matter, Reporting and recordkeeping requirements, Sulfur dioxides.

Dated: June 18, 2019.
James Gulliford,
Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart-Q Iowa

2. In § 52.820, the table in paragraph (e) is amended by adding entry “(51)” to read as follows:

§ 52.820 Identification of plan.

* * * * *

(e)* * *

EPA-Approved Iowa Nonregulatory Provisions
Name of nonregulatory SIP provision | Applicable geographic or nonattainment area | State submittal date | EPA approval date | Explanation
* * * * * * *
(51) Section 110(a)(2)(D)(i)(I)-significant contribution to nonattainment (prong 1), and interfering with maintenance of the NAAQs (prong 2) (Interstate Transport) Infrastructure Requirements for the 2012 Annual Fine Particulate Matter (PM2.5) NAAQS | Statewide | 12/15/2015 | [Date of publication of the final rule in the Federal Register], [Federal Register citation of the final rule] | This action approves the following CAA elements: 110(a)(1) and 110(a)(2)(D)(i)(I)—prongs 1 and 2 [EPA-R07-OAR-2019-0332; FRL-9995-31-Region 7].

Subpart CC-Nebraska

3. In § 52.1420, as proposed to be amended May 9, 2019, at 84 FR 20319, the table in paragraph (e) is further amended by adding entry “(36)” to read as follows:

§ 52.1420 Identification of plan.

* * * * *

(e)* * *

EPA-Approved Nebraska Nonregulatory Provisions
Name of nonregulatory SIP provision | Applicable geographic or nonattainment area | State submittal date | EPA approval date | Explanation
* * * * * * *
(36) Section 110(a)(2)(D)(i)(I) -significant contribution to nonattainment (prong 1), and interfering with maintenance of the NAAQs (prong 2) (Interstate Transport) Infrastructure Requirements for the 2012 Annual Fine Particulate Matter (PM2.5) NAAQS | Statewide | 2/22/2016 | [Date of publication of the final rule in the Federal Register], [Federal Register citation of the final rule] | This action approves the following CAA elements: 110(a)(1) and 110(a)(2)(D)(i)(I)—prongs 1 and 2 [EPA-R07-OAR-2019-0332; FRL-9995-31-Region 7].

[FR Doc. 2019-13370 Filed 6-25-19; 8:45 am]

BILLING CODE 6560-50-P